DEPARTMENT OF HEALTH AND HUMAN SERVICES

Centers for Disease Control and Prevention

[Docket No. CDC-2024-0065, NIOSH-352-A]

Request for Public Comment on the Draft Hazard Review: Wildland Fire Smoke Exposure Among Farmworkers and Other Outdoor Workers

AGENCY: Centers for Disease Control and Prevention (CDC), Department of Health and Human Services (HHS).

ACTION: Request for comment.

SUMMARY: The National Institute for Occupational Safety and Health (NIOSH) in the Centers for Disease Control and Prevention (CDC), an Operating Division of the Department of Health and Human Services (HHS), requests public comment and technical review on the draft Hazard Review: Wildland Fire Smoke Exposure Among Farmworkers and Other Outdoor Workers.

DATES: Electronic or written comments must be received by November 12, 2024.

ADDRESSES: You may submit comments, identified by docket number CDC-2024-0065 and docket number NIOSH-352-A, by either of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number (CDC-2024-0065; NIOSH-352-A). All relevant comments, including any personal information provided, will be posted without change to https://www.regulations.gov. Do not submit comments by email. CDC does not accept comments by email. For access to the docket to read the draft Hazard Review document or comments received, go to https://www.regulations.gov.

FOR FURTHER INFORMATION CONTACT: R. Todd Niemeier, Ph.D., National Institute for Occupational Safety and Health, MS-C15, 1090 Tusculum Avenue, Cincinnati, OH 45226. Telephone: (513) 533-8166.

SUPPLEMENTARY INFORMATION: NIOSH is requesting public comment and technical review of the draft Hazard Review: Wildland Fire Smoke Exposure Among Farmworkers and Other Outdoor Workers, which is accessible in the docket (CDC-2024-0065; NIOSH-352-A). The final document will be edited, so comments that focus on the technical content are requested. The final document will be used as the scientific evidence base to inform the development of supplementary educational materials for workers, employers, and other relevant audiences to support the implementation of the recommendations. Therefore, comments that focus on the understandability, accessibility, and feasibility of the recommendations are requested. To facilitate the review of this document, NIOSH requests that responses to the following specific questions be considered:

1. How could the outdoor worker populations who may be exposed to wildland fire smoke be more completely characterized in Chapter 2? Please provide supporting references.

2. How could this document better identify and characterize the health hazards of exposures to wildland fire smoke based on the available scientific literature in Chapter 3? Is there additional scientific information to be considered regarding the adverse health endpoints associated with exposure to wildland fire smoke? Please provide scientific references to support your response as necessary.

3. What additional information should NIOSH consider adding or how should NIOSH modify the discussion of exposure assessment methods for wildland fire smoke (based on PM2.5 airborne concentration, and when desired, other airborne exposures) to measure outdoor worker exposures in Chapter 4? What are the barriers to employers to implement these recommended methods? Please provide scientific evidence to support your response as necessary.

4. How can the recommendation in Chapter 4 to use the air quality index (AQI) for PM2.5 to define exposure control categories be better explained and supported from both a scientific and health communications standpoint? Please provide scientific evidence to support your response as necessary.

5. What additional information should NIOSH consider to improve the strategies identified in Chapter 5 for controlling exposure to wildland fire smoke (e.g., engineering controls, work practices, personal protective equipment) to make them more effective and reduce barriers to implementation? What additional controls could be considered to protect outdoor workers from wildland fire smoke? Please provide scientific evidence to support your response as necessary.

6. Do the recommendations in Chapter 5 adequately address the protection of potentially disadvantaged or at-risk outdoor workers, such as persons with pre-existing health conditions (e.g., asthma, cardiovascular disease), migrant workers, persons of lower socioeconomic status, and elderly or minor workers? If not, how could the recommendations be changed to better protect these populations? Are there additional recommendations to consider to protect these at-risk workers?

7. How could the recommendations in Chapter 5 better address accessibility and feasibility for outdoor workers and employers?

8. What are the potential barriers to the understandability of the recommendations in Chapter 5 for outdoor workers and employers? When developing supplementary educational materials to support the implementation of these recommendations, how can NIOSH best address those barriers?

9. What other research needs should be considered in addition to those included in Chapter 6, Research Needs? Please provide a scientific justification for additional research needs.

The draft Hazard Review was developed to provide the scientific rationale for characterizing hazards of exposure to wildland fire smoke for outdoor workers. The draft Hazard Review also provides recommendations and guidance for minimizing exposures and potential health effects associated with wildland fire smoke for outdoor workers.

After the comments received on the draft Hazard Review are considered and addressed, the final Hazard Review will be posted on the NIOSH website.

Background: The purpose of the Hazard Review document is to provide an overview of the relevant health effects literature and present evidence-based recommendations to protect outdoor workers, including farm workers, construction workers, oil and gas workers, park rangers, emergency responders, and others from the adverse health effects of occupational exposure to wildland fire smoke. On March 14, 2024, CDC/NIOSH published a Request for Information (RFI) in the Federal Register (89 FR 18638). The Federal Register notice announced plans to develop a Hazard Review document that summarizes the scientific literature about the health effects from exposures to wildland fire smoke and provides recommendations to protect outdoor workers [NIOSH 2024]. In response to the RFI, NIOSH received 10 comment submissions, all of which were reviewed and considered during the development of this draft Hazard Review. The RFI and comments received are accessible in the docket (CDC-2024-0019, NIOSH-352). In addition to requesting information from the public, the Hazard Review development process involved review and assessment of the scientific literature about exposures to wildland fire smoke, potential health effects, outdoor worker populations at risk, and development or update of recommendations to protect outdoor workers. The information presented in this draft Hazard Review represents the scientific rationale and the current methodology about approaches to assess and control the hazards of wildland fire smoke to outdoor workers. Scientific information related to wildland fire smoke presented in the draft Hazard Review covers the following topics:

• Background on wildland fire smoke

• History of NIOSH and other government organizations' related activity

• Chemical and physical properties of the smoke

• Population of outdoor workers with potential exposure

• Routes of worker exposure

• Health equity

• Health effects of exposure

• Exposure assessment

• Controlling workplace exposures

• Medical surveillance and medical monitoring

• Research needs

Reference

NIOSH [2024]. National Institute for Occupational Safety and Health; Outdoor workers exposed to wildland fire smoke; Request for information. 89 FR 18638. https://www.federalregister.gov/documents/2024/03/14/2024-05403/national-institute-for-occupational-safety-and-health-outdoor-workers-exposed-to-wildland-fire-smoke.

Dated: September 9, 2024.
John J. Howard,
Director, National Institute for Occupational Safety and Health, Centers for Disease Control and Prevention, Department of Health and Human Services.

[FR Doc. 2024-20763 Filed 9-12-24; 8:45 am]

BILLING CODE 4163-18-P